CHEMICAL SAFETY AND HAZARD INVESTIGATION BOARD

Sunshine Act Meeting; Public Hearing: Kaltech Industries Group, Inc. Incident

AGENCY: Chemical Safety and Hazard Investigation Board (CSB).

ACTION: Notice announcing Sunshine Act public hearing and requesting public comment and participation.

SUMMARY: The CSB will hold a public hearing to examine findings and preliminary conclusions resulting from its investigation into a building fire explosion at Kaltech Industries Group, Inc., an architectural sign manufacturer located at 123 West 19th Street, New York City. The explosion that occurred April 26, 2002, injured 31 people, including 14 persons who were not employed by Kaltech. This notice provides information regarding the CSB investigation into the chemical incident, a request for comments on specific issues raised by the investigation, and the date, time, location and agenda for the public hearing. At the end of the staff and panel presentations, the Board has also allocated time to take comments from the public.

DATES: The Public Hearing will be held on Wednesday April 16, 2003, from 9 a.m. to 1 p.m. at the Fashion Institute of Technology (SUNY), 7th Avenue at 27th Street, New York City, New York.

Pre-Registration: The event is open to the public and there is no fee for attendance. However, attendees are strongly encouraged to pre-register, to ensure adequate seating arrangements. If you would like to provide oral comments to the Board, please state your intention to do so when pre-registering. Time for public comments is limited. Speakers will be limited to approximately 4 minutes. Those unable to present oral testimony because of time restrictions are urged to file written comments. To pre-register, please e-mail your name and affiliation by April 11, 2003, to Don.Holmstrom@csb.gov.

Written Comments: The public is encouraged to submit written comments to the Chemical Safety Board. Individuals, organizations, businesses, or local, state or federal government agencies may submit written comments. Such comments must be filed on or before May 5, 2003. For further instructions on submitting comments, please see the “Form and Availability of Comments” section below.

ADDRESSES: Written comments and requests to provide oral comments at the Public Hearing should be submitted to: Mr. Don Holmstrom, U.S. Chemical Safety and Hazard Investigation Board, 2175 K Street, NW., Washington, DC 20037. Alternatively, they may be e-mailed to to Don.Holmstrom@csb.gov.

FOR FURTHER INFORMATION CONTACT: Steve Selk, Office of Investigations and Safety Programs, 202.261.7622.

SUPPLEMENTARY INFORMATION:

A. Introduction

B. Background

C. Key Questions

D. Request for comments

E. Agenda

F. Sunshine Act Notice

A. Introduction

The CSB is an independent federal agency established in 1998 with the mission to protect workers, the public, and the environment by investigating and preventing chemical accidents. The CSB determines the root causes of these accidents and makes safety recommendations to government agencies, companies, and other organizations.

The CSB is nearing completion of its investigation into an incident on April 26, 2002, involving an explosion and fire that occurred in a 10-story mixed use building in the Chelsea district in Manhattan, New York City. A public hearing will be held on April 16, 2003, at 9 a.m., at the Fashion Institute of Technology (SUNY), 7th Avenue at 27th Street, New York City, New York. CSB staff will present preliminary findings and conclusions from this investigation to the Board. Major issues involved in this investigation include hazard communication, hazardous waste handling, and municipal oversight. The hearing provides a forum for interested parties to provide input prior to CSB's formulation of final recommendations and issuance of a report. Interested parties will provide presentations to the Board, and at the conclusion of these formal presentations, there will be an opportunity for public comment.

B. Background

On April 26, 2002, an explosion and fire occurred in a 10-story mixed-use commercial building in the Chelsea district of Manhattan, New York City. The structure was built in 1902. It was occupied by a variety of tenants, including commercial, professional service, and manufacturing firms. At the time of the incident, Kaltech Industries Group Inc. occupied the basement of the building and portions of the mezzanine and first floor. Kaltech had leased space in the building for about ten years. The incident originated in the basement space leased by Kaltech Industries Group Inc.

Kaltech typically accumulated waste chemicals onsite and arranged for them to be picked up periodically by a hazardous waste disposal contractor. The day of the incident, Kaltech employees had just finished consolidating hazardous waste from smaller containers into two larger drums, when a violent chemical reaction started to take place in one of the 55-gallon drums. An explosion occurred seconds later. The highly confined environment of the basement offered limited pathways for the explosion to vent. The blast was partially relieved via the building's center hall stairway and the freight elevator. The explosion injured 31 people, including 14 persons who were not employed by Kaltech. Following the explosion, the New York City Building Department issued an order to vacate the building pending a structural evaluation. A few days later the structure was determined to be sound and tenants were permitted to return. Operations at Kaltech, however, remained suspended. The Fire Marshall retained control of Kaltech space while a hazardous environment remediation contractor analyzed and removed the chemicals and decontaminated the area.

Because of the serious nature of this incident and the fact that a chemical reaction was probably involved, the U.S. Chemical Safety & Hazard Investigation Board (CSB) initiated an investigation to determine the root and contributing causes of the incident and to issue recommendations to help prevent similar occurrences.

At the Public Hearing on April 16th, the CSB staff will present preliminary findings regarding causes of this incident. No factual analyses, conclusions or findings should be considered final.

After the Hearing the Board will allow time for public comment. This comment period will close on May 5, 2003. Following the conclusion of the public comment period, the CSB will review and carefully consider all comments. The staff will then submit a final report on this incident for Board consideration, including specific recommendations targeted to prevent a similar accident like this from occurring elsewhere.

The Board will carefully review the report from the staff and will vote either in open public session or in a notation memorandum to accept the report, its findings and recommendations. When a report and its recommendations are approved, this will begin CSB's process for disseminating the findings and recommendations of the report not only to the recipients of recommendations but also to other public and industry sectors. The CSB believes that this process will ultimately lead to the adoption of recommendations and the growing body of safety knowledge in the industry, which, in turn, should save future lives and property.

C. Key Questions

Questions for Panel Presenters

(1) How does the New York City Fire Prevention Code function to control the handling of incompatible materials such as nitric acid and flammable liquids? What are the requirements of the Code's permitting provisions, and are they sufficient to prevent the mixing of incompatible materials?

(2) In light of the Kaltech incident are there changes to the New York City Fire Prevention Code that would enhance the safe handling of hazardous materials such as nitric acid? If so, what areas should be addressed? In responding, consider the following topics:

a. Hazardous material identification and labeling.

b. Permitting requirements such as the submission of management plans and inventory statements.

c. MSDS availability to the workforce.

d. Worker training.

e. The safe separation of incompatible materials in manufacturing facilities.

(3) Do model fire codes such as the International Code Council's International Fire Code and National Fire Protection Association's National Fire Code present a more comprehensive approach to hazardous materials management in these areas? Are there other cities or states that have adopted more effective hazardous material provisions in their fire code? How do the requirements of the New York State Uniform Fire Prevention and Building Code Act affect the fire code obligations of New York City?

(4) By what means do the New York City Fire Department and the Department of Environmental Protection exchange information concerning facilities' use and storage of hazardous materials? Are there ways in which they can communicate more effectively concerning hazardous material inventory and labeling requirements?

Comments should address the questions listed above. CSB will accept verbal comments at the public hearing. Verbal comments must be limited to 4 minutes. Those wishing to make verbal comments should pre-register by April 11, 2003. To pre-register, send your name and a brief outline of your comments to the person listed in ADDRESSES.

D. Request for Comments

The CSB requests that interested parties submit written comments on the above questions to facilitate greater understanding of the issues. Comments should indicate the number(s) of the specific question(s) being answered, provide responses to questions in numerical order, and use a separate page for each question answered. Comments should be captioned “Kaltech Incident —Comments,” and must be filed on or before May 5, 2003.

Parties sending written comments should submit an original and two copies of each document. To enable prompt review and public access, paper submissions should include a version on diskette in PDF, ASCII, or Microsoft Word format. Diskettes should be labeled with the name of the party, and the name and version of the word processing program used to create the document. Alternatively, comments may be mailed to Don.Holmstrom@csb.gov. Written comments will be available for public inspection in accordance with the Freedom of Information Act, 5 U.S.C. 552, and CSB regulations.

E. Agenda (9 a.m.-1 p.m.)

I. CSB Introduction (1 hour)

II. New York City panel (1 hour)

III. Fire Safety Experts' panel (1hour)

IV. Comments from interested parties and the public (1 hour)

F. Sunshine Act Notice

The United States Chemical Safety and Hazard Investigation Board announces that it will convene a Public Hearing beginning on Wednesday April 16, 2003, from 9 a.m. to 1 p.m. at the Fashion Institute of Technology (SUNY), 7th Avenue at 27th Street, New York City, New York. Topics will include: CSB's investigation of the Kaltech Industries Group. The meeting will be open to the public. Please notify CSB if a translator or interpreter is needed, 10 business days prior to the public meeting. For more information, please contact the Chemical Safety and Hazard Investigation Board's Office of Congressional and Public Affairs, 202-261-7600, or visit our Web site at: www.csb.gov.

Christopher W. Warner,
General Counsel.

[FR Doc. 03-8182 Filed 3-31-03; 4:15 pm]

BILLING CODE 6350-01-P